DEPARTMENT OF TRANSPORTATION

Federal Railroad Administration

Notice of Funding Opportunity for Law Enforcement Strategies for Reducing Trespassing Pilot Grant Program

AGENCY: Federal Railroad Administration (FRA), Department of Transportation (DOT).

ACTION: Notice of Funding Opportunity (NOFO).

SUMMARY: This notice details the application requirements and procedures to obtain grant ¹ funding for eligible projects under the Law Enforcement Strategies for Reducing Trespassing Pilot Grant Program. The opportunities described in this notice are available under Catalog of Federal Domestic Assistance number 20.301, “Rail Safety Grants.”

¹ The term “grant” is used throughout this document and is intended to reference funding awarded through a grant agreement, as well as funding awarded through a cooperative agreement.

DATES: Applications for funding under this solicitation are due no later than 5:00 p.m. EDT, on April 23, 2018. Applications for funding received after 5:00 p.m. EDT on April 23, 2018 will not be considered for funding. See Section D of this notice for additional information on the application process.

ADDRESSES: Applications must be submitted via www.Grants.gov. Only applicants who comply with all submission requirements described in this notice and submit applications through Grants.gov will be eligible for award. For any supporting application materials that an applicant is unable to submit via Grants.gov, an applicant may submit an original and two (2) copies to Amy Houser, Office of Program Delivery, Federal Railroad Administration, 1200 New Jersey Avenue SE, Room W36-412, Washington, DC 20590. However, due to delays caused by enhanced screening of mail delivered via the U.S. Postal Service, applicants are advised to use other means of conveyance (such as courier service) to assure timely receipt of materials.

FOR FURTHER INFORMATION CONTACT: For further information regarding this notice, please contact Michail Grizkewitsch, Office of Railroad Safety, Federal Railroad Administration, 1200 New Jersey Avenue SE, Room W33-446, Washington, DC 20590; email: Michail.grizkewitsch@dot.gov; phone: (202) 493-1370.

SUPPLEMENTARY INFORMATION:

Notice to applicants: FRA recommends that applicants read this notice in its entirety prior to preparing application materials. There are several administrative prerequisites and eligibility requirements described herein that applicants must comply with to submit an application. Additionally, applicants should note that the required Project Narrative component of the application package may not exceed 25 pages in length.

Table of Contents

A. Program Description

B. Federal Award Information

C. Eligibility Information

D. Application and Submission Information

E. Application Review Information

F. Federal Award Administration Information

G. Federal Awarding Agency Contact

A. Program Description

Trespassing on a railroad's private property and along railroad rights-of-way is the leading cause of rail-related fatalities in America. Since 1997, more people have been fatally injured each year by trespassing than in motor vehicle collisions with trains at highway-rail grade crossings. Nationally, approximately 500 trespassing deaths occur each year.

By definition, trespassers are on railroad property without permission. They are most often people who walk across or along railroad tracks as a shortcut to another destination. They also may be engaged in another activity such as loitering, hunting, bicycling, snowmobiling, or all-terrain vehicle (ATV) riding.

From August 3 to August 6, 2015, FRA sponsored the 2015 Right-of-Way (ROW) Fatality and Trespass Prevention Workshop in Charlotte, North Carolina (https://www.fra.dot.gov/conference/row/index.shtml). One of the main objectives of the workshop was to present best practices and solicit new ideas about new or expanded initiatives, strategies, programs, and trespass prevention. The workshop provided a variety of presentations which covered key topic areas such as community outreach, enforcement, hazard management, infrastructure design and technology, pedestrian issues, and intentional deaths/acts.

The Enforcement Session of the Workshop covered effective safety and security initiatives to identify, apprehend, prosecute, and track trespassers along railroad ROWs. One of the top recommended actions from the Enforcement Session was to “establish a federally funded grant program designed specifically for the enforcement of state, county, or municipal laws relating to railroad trespass violations.”

In response to that recommendation, FRA is initiating a “Pilot Grant Program” to assist communities at risk for rail trespassing related incidents and fatalities. The objective of this program is to evaluate the effectiveness of funding local law enforcement activities intended to reduce trespassing on the rail ROWs.

The funded agencies will perform rail trespassing enforcement related activities and report those activities and associated benefits to FRA. The data obtained from the activities performed in this Pilot Grant Program will help determine the effectiveness of funding local law enforcement agencies for rail trespass prevention activities.

Funding for research and development, including this Pilot Grant Program, was made available by the Consolidated Appropriations Act, 2016, Public Law 114-113, Div. L, Tit. I, 129 Stat. 2242, 2853 (2015). FRA's research and development programs are authorized in 49 U.S.C. 20108, 49 U.S.C. 301(6) and 49 U.S.C. 103(i) authorizes the Administrator to make grants.

B. Federal Award Information

This notice contains the requirements and procedures applicants must follow to secure funding under the Pilot Grant Program. The total amount of discretionary funding available for approved expenses under this NOFO is $150,000. There are no predetermined minimum or maximum dollar thresholds for awards. FRA anticipates making multiple awards with the available funding. FRA may not be able to award grants to all eligible applications, nor even to all applications that meet or exceed the stated evaluation criteria (see Section E, Application Review Information). Projects must be completed within the six-month period of performance under the grant. FRA will make awards for projects selected under this notice through cooperative agreements. Cooperative agreements allow for substantial Federal involvement in carrying out the agreed upon investment, including technical assistance, review of interim work products, and increased program oversight under 2 CFR part 200, appendix I. The funding provided under these cooperative agreements will be made available to grantees on a reimbursable basis. Applicants must certify that their expenditures are allowable, allocable, reasonable, and necessary to the approved project before seeking reimbursement from FRA.

C. Eligibility Information

This section of the notice explains the requirements for submitting an eligible grant application. Applications that do not meet the requirements in this section will be considered ineligible for funding. Instructions for conveying eligibility information to FRA are detailed in Section D of this NOFO.

1. Eligible Applicants

The following entities are eligible applicants for all project types permitted under this notice (see Section C.3, “Other—Project Eligibility”):

a. The applicant and co-applicant pool is limited to state, county, municipal, local, and regional law enforcement agencies in the U.S.

b. Applicants for this grant must have a demonstrated rail trespass problem in their community.

c. At least 1 mile of FRA-regulated railroad mainline track must be within the boundaries of the applying agency's jurisdiction.

2. Cost Sharing or Matching

Neither cost sharing nor matching is a requirement for this grant program.

3. Other—Project Eligibility

Projects eligible for funding under this NOFO are for enforcement activities focused on specific railroad trespassing laws to reduce related incidents and casualties, particularly in areas near railroad trespass “hot” spots.

The hourly rate for enforcement officer activities should be limited to the officer's overtime rate (e.g. 1.5 times the base rate). Administrative costs are capped at 1% of the total grant award. Projects must be completed within the six-month period of performance under the grant.

The applicant must collect and report the following information to FRA for activities performed using the grant funding:

• Date, time, number of officers, location and description of enforcement activity;

• Justification or reason for selected enforcement activity;

• Number of contacts (i.e. encounters with trespassers);

• Number of warnings and/or citations issued; and

• The deterrence effect of such activities and method for measuring such deterrence. The grantee must explain how they determine deterrence effect.

D. Application and Submission Information

Required documents for the application package are outlined below. Applicants must complete and submit the application package. The application package must include historical data such as law enforcement activity, trespassing incident and casualty records, or criminal complaints. FRA suggests submission of supporting documentation such as letters of support.

1. Address To Request Application Package

Applicants must submit all application materials through http://www.Grants.gov no later than 5:00 p.m. EDT, on April 23, 2018. Applicants are strongly encouraged to apply early to ensure that all materials are received before the application deadline. General information for submitting applications through Grants.gov can be found at: https://www.fra.dot.gov/Page/P0270.

2. Content and Form of Application Submission

Applicants should read this section carefully and must submit all required information.

a. Project Narrative

This section describes the minimum requirement for the Project Narrative. FRA also recommends the Project Narrative generally adhere to the following outline. The narrative may include spreadsheet documents, tables, maps, drawings, and other materials, as appropriate. The Project Narrative must not exceed 25 pages excluding cover pages and table of contents. Pages in excess of the maximum will not be reviewed.

The Project Narrative must:

i. Include a title page that lists the following elements in either a table or formatted list: project title; location (i.e., town, city, county, State, Congressional district); applicant organization name; name of any co-applicants; and amount of Federal funding requested;

ii. Designate a point of contact for the applicant and provide his or her name and contact information, including phone number, mailing address, and email address. The point of contact must be an employee of the applicant;

iii. Explain how the applicant meets the applicant eligibility criteria outlined in Section C of this notice;

iv. Provide a brief 4-6 sentence summary of the proposed project, capturing the challenges the proposed project aims to address, intended outcomes, and anticipated benefits that will result from the proposed project;

v. Include a detailed project description that expands upon the brief summary required above. This detailed description should provide, at a minimum, additional background on the challenges the project aims to address, the expected beneficiaries of the project, the specific components and elements of the project, and any other information the applicant deems necessary to justify the proposed project. The detailed description should clearly explain how the proposed project meets the project eligibility criteria in Section C of this notice;

vi. Include geospatial data for the project showing trespass “hotspots.” If applicable, the project description must also cite specific DOT National Highway-Rail Crossing Inventory information for trespass “hot” spots at grade crossings, including the name of the railroad that owns the infrastructure (or the crossing owner, if different from the railroad), the name of the primary operating railroad, the DOT National Highway-Rail Crossing Inventory Number, and the name of the roadway at the crossing. Applicants can search for data to meet this requirement at the following link: http://safetydata.fra.dot.gov/OfficeofSafety/default.aspx; and

vii. Include a thorough discussion of how the proposed project meets all the evaluation criteria. Applicants should note that FRA reviews applications based upon the evaluation criteria in Section E.1.b; therefore, an application should sufficiently address the evaluation criteria.

b. Additional Application Elements

Applicants must include the following documents in the application package:

i. SF 424—Application for Federal Assistance;

ii. SF 424A—Budget Information for Non-Construction;

iii. SF 424B—Assurances for Non-Construction;

iv. FRA's Additional Assurances and Certifications; and

v. SF LLL—Disclosure of Lobbying Activities.

Forms needed for the electronic application process are at www.grants.gov.

c. Post-Selection Requirements

See Section F(2) for post-selection requirements.

3. Unique Entity Identifier, System for Award Management (SAM), and Submission Instructions

To apply for funding through Grants.gov, applicants must be properly registered. Complete instructions on how to register and submit an application can be found at www.Grants.gov. Registering with Grants.gov is a one-time process; however, it can take up to several weeks for first-time registrants to receive confirmation and a user password. FRA recommends that applicants start the registration process as early as possible to prevent delays that may preclude submitting an application package by the application deadline. Applications will not be accepted after the due date. Delayed registration is not an acceptable justification for an application extension.

FRA may not make a grant award to an applicant until the applicant has complied with all applicable Data Universal Numbering System (DUNS) and SAM requirements. (Please note that if a Dun & Bradstreet DUNS number must be obtained or renewed, this may take a significant amount of time to complete.) Late applications that are the result of a failure to register or comply with Grants.gov applicant requirements in a timely manner will not be considered. To submit an application through Grants.gov, applicants must:

a. Obtain a DUNS number

A DUNS number is required for Grants.gov registration. The Office of Management and Budget requires that all businesses and nonprofit applicants for Federal funds include a DUNS number in their applications for a new award or renewal of an existing award. A DUNS number is a unique nine-digit sequence recognized as the universal standard for the government in identifying and keeping track of entities receiving Federal funds. The identifier is used for tracking purposes and to validate address and point of contact information for Federal assistance applicants, recipients, and sub-recipients. The DUNS number will be used throughout the grant life cycle. Obtaining a DUNS number is a free, one-time activity. Applicants may obtain a DUNS number by calling 1-866-705-5711 or by applying online at http://www.dnb.com/us.

b. Register With the SAM at www.SAM.gov

All applicants for Federal financial assistance must maintain current registrations in the SAM database. An applicant must be registered in SAM to successfully register in Grants.gov. The SAM database is the repository for standard information about Federal financial assistance applicants, recipients, and sub recipients. Organizations that have previously submitted applications via Grants.gov are already registered with SAM, as it is a requirement for Grants.gov registration. Please note, however, that applicants must update or renew their SAM registration at least once per year to maintain an active status. Therefore, it is critical to check registration status well in advance of the application deadline. If an applicant is selected for an award, the applicant must maintain an active SAM registration with current information throughout the period of the award. Information about SAM registration procedures is available at www.sam.gov.

c. Create a Grants.gov username and password

Applicants must complete an Authorized Organization Representative (AOR) profile on www.Grants.gov and create a username and password. Applicants must use the organization's DUNS number to complete this step. Additional information about the registration process is available at: https://www.grants.gov/web/grants/applicants/organization-registration.html.

d. Acquire Authorization for Your AOR From the E-Business Point of Contact (E-Biz POC)

The E-Biz POC at the applicant's organization must respond to the registration email from Grants.gov and login at www.Grants.gov to authorize the applicant as the AOR. Please note there can be more than one AOR for an organization.

e. Submit an Application Addressing All Requirements Outlined in This NOFO

If an applicant experiences difficulties at any point during this process, please call the Grants.gov Customer Center Hotline at 1-800-518-4726, 24 hours a day, 7 days a week (closed on Federal holidays). For information and instructions on each of these processes, please see instructions at: http://www.grants.gov/web/grants/applicants/apply-for-grants.html.

Note: Please use generally accepted formats such as .pdf, .doc, .docx, .xls, .xlsx and .ppt, when uploading attachments. While applicants may embed picture files, such as .jpg, .gif, and .bmp, in document files, applicants should not submit attachments in these formats. Additionally, the following formats will not be accepted: .com, .bat, .exe, .vbs, .cfg, .dat, .db, .dbf, .dll, .ini, .log, .ora, .sys, and .zip.

4. Submission Dates and Times

Complete applications must be received through www.Grants.gov no later than 5:00 p.m. EDT, on April 23, 2018.

To ensure a fair competition of limited discretionary funds, the following conditions are not valid reasons to permit late submissions: (1) Failure to complete the Grants.gov registration process before the deadline; (2) failure to follow Grants.gov instructions on how to register and apply as posted on its website; (3) failure to follow all the instructions in this NOFO; or (4) technical issues experienced with the applicant's computer or information technology environment.

5. Intergovernmental Review

Executive Order 12372 requires applicants from State and local units of government or other organizations providing services within a State to submit a copy of the application to the State Single Point of Contact (SPOC), if one exists, and if this program has been selected for review by the State. Applicants must contact their State SPOC to determine if the program has been selected for State review.

6. Funding Restrictions

Court costs are not an eligible expense under this grant. FRA will only approve pre-award costs consistent with 2 CFR 200.458. Under 2 CFR 200.458, grant recipients must seek written approval from FRA for pre-award activities to be eligible for reimbursement under the cooperative agreement.

E. Application Review Information

1. Criteria

a. Intake and Eligibility Criteria

FRA will first screen each application for eligibility (eligibility requirements are outlined in Section C of this notice) and completeness (application documentation and submission requirements are outlined in Section D of this notice).

b. Evaluation Criteria

FRA-led technical panels of subject-matter experts will evaluate all eligible and complete applications using the evaluation criteria outlined in this section. FRA will analyze each application using the criteria and factors below.

i. Technical Merit. FRA will evaluate application information for the degree to which:

a. The application is thorough and responsive to all the requirements outlined in this notice.

b. The tasks outlined in the project narrative are appropriate to achieve the expected safety benefits of the proposed project.

c. The proposed costs or level of effort are realistic and sufficient to accomplish the tasks.

ii. Project Benefits

FRA intends to award funds to projects that achieve the maximum benefits possible. FRA will evaluate the extent to which:

a. The application contains data and/or supporting information to describe the safety risk posed by rail trespassing in the applicant's jurisdiction. This information could include counts of trespass incidents and casualties, close calls and media coverage of high-visibility encounters.

b. The applicant describes the expected safety benefit of the project, namely how initiatives funded by this program will reduce trespassing on the rail ROW.

c. The applicant demonstrates a cooperative relationship with stakeholders (e.g. rail owners and operators, adjacent property owners, municipal governments).

c. Selection Criteria

In addition to the evaluation criteria, the projects selected for funding will advance FRA's current mission and key priorities.

2. Review and Selection Process

FRA will review the applications as follows:

a. Screen applications for completeness and eligibility;

b. Evaluate complete and eligible applications (conducted by technical panels applying the evaluation criteria); and

c. Select projects for funding (completed by the FRA Administrator applying selection criteria).

F. Federal Award Administration Information

1. Federal Award Notices

Applications selected for funding will be announced after the application review period through a press release on FRA's website. Following the announcement, unsuccessful applicants will be notified in writing of the outcomes of the application selection process with a brief explanation of the decision. FRA will contact applicants with successful applications after announcement with information and instructions about the award process. Notification of a selected application is not an authorization to begin proposed project activities. A formal Notice of Grant Agreement signed by both the grantee and the FRA containing an approved scope, schedule, and budget, is required before the award is considered complete.

The period of performance for grants awarded under this notice will be six months. FRA will only consider written requests to extend the period of performance with specific and compelling justifications for why an extension is required. Any obligated funding not spent by the grantee and reimbursed by the FRA upon completion of the grant will be de-obligated.

2. Administrative and National Policy Requirements

Due to funding limitations, projects that are selected for funding may receive less than the amount originally requested. In those cases, applicants must be able to demonstrate that the proposed projects are still viable and can be completed with the amount awarded.

Grantees and entities receiving funding from the grantee (sub-recipients) must comply with all applicable laws and regulations. A non-exclusive list of administrative and national policy requirements that grantees must follow includes: 2 CFR part 200; procurement standards; compliance with Federal civil rights laws and regulations; disadvantaged business enterprises; debarment and suspension; drug-free workplace; FRA's and OMB's Assurances and Certifications; Americans with Disabilities Act; and labor standards, safety requirements, environmental protection, National Environmental Policy Act, environmental justice, and Buy American (41 U.S.C. 8302) provisions. See: https://www.fra.dot.gov/Page/P0269.

3. Reporting

a. Reporting Matters Related to Integrity and Performance

Before making a Federal award with a total amount of Federal share greater than the simplified acquisition threshold (see 2 CFR 200.88 Simplified Acquisition Threshold), FRA will review and consider any information about the applicant that is in the designated integrity and performance system accessible through SAM (currently the Federal Awardee Performance and Integrity Information System (FAPIIS)) (see 41 U.S.C. 2313).

An applicant, at its option, may review information in the designated integrity and performance systems accessible through SAM and comment on any information about itself that a Federal awarding agency previously entered and is currently in the designated integrity and performance system accessible through SAM.

FRA will consider any comments by the applicant, in addition to the other information in the designated integrity and performance system, in making a judgment about the applicant's integrity, business ethics, and record of performance under Federal awards when completing the review of risk posed by applicants as described in 2 CFR 200.205.

b. Progress Reporting on Grant Activity

Each applicant selected for a grant will be required to comply with all standard FRA reporting requirements, including quarterly progress reports, quarterly Federal financial reports, and interim and final performance reports, as well as all applicable auditing, monitoring and close out requirements. Reports may be submitted electronically.

c. Performance Reporting

Each applicant selected for funding must collect information and report on the project's performance as directed by the FRA to assess progress.

The applicant must comply with all relevant requirements of 2 CFR part 200.

G. Federal Awarding Agency Contact

For further information regarding this notice and the grants program, please contact Michail Grizkewitsch, Office of Railroad Safety, Federal Railroad Administration, 1200 New Jersey Avenue SE, Room W33-446, Washington, DC 20590; email: Michail.grizkewitsch@dot.gov.

Issued in Washington, DC on February 15, 2018.
Jamie Rennert,
Director, Office of Program Delivery, Federal Railroad Administration.

[FR Doc. 2018-03579 Filed 2-21-18; 8:45 am]

BILLING CODE 4910-06-P